DEPARTMENT OF TRANSPORTATION

Federal Aviation Administration

14 CFR Part 39

[Docket No. FAA-2025-0754; Project Identifier MCAI-2024-00489-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2017-23-04, which applies to all Airbus SAS Model A300 B4-600R series airplanes; all Model A300 B4-603, B4-620, and B4-622 airplanes; all Model A300 C4-605R Variant F airplanes; and certain Model A300 F4-605R airplanes. AD 2017-23-04 requires an inspection of the upper wing skin and top stringer joints, and modification of the stringer joint couplings if necessary. Since the FAA issued AD 2017-23-04, it has been determined that additional airplanes may be subject to the identified unsafe condition. This proposed AD would continue to require the actions in AD 2017-23-04 and would add airplanes, as specified in a European Union Aviation Safety Agency (EASA) AD, which is proposed for incorporation by reference (IBR). This proposed AD would also remove certain airplanes from the applicability. The FAA is proposing this AD to address the unsafe condition on these products.

DATES: The FAA must receive comments on this proposed AD by June 27, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0754; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; telephone +49 221 8999 000; email ADs@easa.europa.eu. You may find this material on the EASA website at ad.easa.europa.eu. It is also available at regulations.gov under Docket No. FAA-2025-0754.

• You may view this material at the FAA, Airworthiness Products Section, Operational Safety Branch, 2200 South 216th St., Des Moines, WA. For information on the availability of this material at the FAA, call 206-231-3195.

FOR FURTHER INFORMATION CONTACT: Aaron Nguyen, Aviation Safety Engineer, FAA, 2200 South 216th St., Des Moines, WA 98198; phone: 817-222-5134; email: Aaron.T.Nguyen@faa.gov.

SUPPLEMENTARY INFORMATION:

Comments Invited

The FAA invites you to send any written relevant data, views, or arguments about this proposal. Send your comments to an address listed under the ADDRESSES section. Include “Docket No. FAA-2025-0754; Project Identifier MCAI-2024-00489-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Aaron Nguyen, Aviation Safety Engineer, FAA, 2200 South 216th St., Des Moines, WA 98198; phone: 817-222-5134; email: Aaron.T.Nguyen@faa.gov. Any commentary that the FAA receives which is not specifically designated as CBI will be placed in the public docket for this rulemaking.

Background

The FAA issued AD 2017-23-04, Amendment 39-19098 (82 FR 52832, November 15, 2017) (AD 2017-23-04), for all Airbus SAS Model A300 B4-600R series airplanes; all Model A300 B4-603, B4-620, and B4-622 airplanes; all Model A300 C4-605R Variant F airplanes; and certain Model A300 F4-605R airplanes. AD 2017-23-04 was prompted by an MCAI originated by EASA, which is the Technical Agent for the Member States of the European Union. EASA issued AD 2017-0023, dated February 10, 2017 (EASA AD 2017-0023), to correct an unsafe condition.

AD 2017-23-04 requires an inspection of the upper wing skin and top stringer joints, and modification of the stringer joint couplings if necessary. The FAA issued AD 2017-23-04 to detect and correct damage (including cracking) at the stringer joints, which could reduce the structural integrity of the wing.

Actions Since AD 2017-23-04 Was Issued

Since the FAA issued AD 2017-23-04, EASA superseded AD 2017-0023 and issued EASA AD 2024-0170, dated August 26, 2024 (EASA AD 2024-0170) (also referred to as the MCAI), to correct an unsafe condition for all Airbus SAS Model A300 B4-603, B4-605R, B4-622, B4-622R, C4-605R Variant F, C4-620, F4-605R, and F4-622R airplanes. Model A300 C4-620 airplanes are not certificated by the FAA and are not included on the U.S. type certificate data sheet; this proposed AD therefore does not include those airplanes in the applicability. The MCAI also removes Model A300 B4-620 airplanes from the applicability as none are operational. The MCAI states that EASA AD 2024-0170 was issued to expand the applicability to include Model A300 F4-605R airplanes in post-modification 12699 configuration (i.e., airplanes embodied with Airbus modification 12699) and A300 F4-622R airplanes, even though the introduced models are below the lower threshold of the embodiment window (for modification of the stringer joint couplings), ensuring that their structures remain resistant against widespread fatigue damage within their established limit of validity.

The FAA is proposing this AD to detect and correct damage (including cracking) at the stringer joints, which could reduce the structural integrity of the wing. You may examine the MCAI in the AD docket at regulations.gov under Docket No. FAA-2025-0754.

Explanation of Retained Requirements

Although this proposed AD does not explicitly restate the requirements of AD 2017-23-04, this proposed AD would retain all of the requirements of AD 2017-23-04. Those requirements are referenced in EASA AD 2024-0170, which, in turn, is referenced in paragraph (g) of this proposed AD.

Material Incorporated by Reference Under 1 CFR Part 51

EASA AD 2024-0170 specifies procedures for a detailed visual inspection of the upper wing skin and top stringer joints at rib 18 for damage (including cracking), modification of the stringer joint couplings at rib 18, and corrective actions if necessary. The modification includes oversizing fastener holes in the upper wing skin and doing a special detailed (roto-probe) inspection for damage, including cracking, of the fastener holes. Corrective actions include obtaining and following repair instructions. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would retain all requirements of AD 2017-23-04. This proposed AD would revise the applicability by removing Model A300 B4-620 airplanes, adding Model A300 F4-622R airplanes, and expanding the applicability to include Model A300 F4-605R airplanes that were excepted from AD 2017-23-04 (i.e., airplanes embodied with Airbus modification 12699 in production). This proposed AD would require accomplishing the actions specified in EASA AD 2024-0170 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0170 by reference in the FAA final rule. This proposed AD would, therefore, require compliance with EASA AD 2024-0170 in its entirety through that incorporation, except for any differences identified as exceptions in the regulatory text of this proposed AD. Using common terms that are the same as the heading of a particular section in EASA AD 2024-0170 does not mean that operators need comply only with that section. For example, where the AD requirement refers to “all required actions and compliance times,” compliance with this AD requirement is not limited to the section titled “Required Action(s) and Compliance Time(s)” in EASA AD 2024-0170. Material required by EASA AD 2024-0170 for compliance will be available at regulations.gov under Docket No. FAA-2025-0754 after the FAA final rule is published.

Costs of Compliance

The FAA estimates that this AD, if adopted as proposed, would affect 119 airplanes of U.S. registry. The FAA estimates the following costs to comply with this proposed AD:

Estimated Costs for Required Actions
Action | Labor cost | Parts cost | Cost per product | Cost on U.S. operators
Retained actions from AD 2017-23-04 | 38 work-hours × $85 per hour = $3,230 | $9,540 | $12,770 | $1,519,630

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(f), 40113, 44701.

§ 39.13 [Amended]

2. The FAA amends § 39.13 by:

a. Removing Airworthiness Directive (AD) 2017-23-04, Amendment 39-19098 (82 FR 52832, November 15, 2017); and

b. Adding the following new AD:

Airbus SAS: Docket No. FAA-2025-0754; Project Identifier MCAI-2024-00489-T.

(a) Comments Due Date

The FAA must receive comments on this airworthiness directive (AD) by June 27, 2025.

(b) Affected ADs

This AD replaces AD 2017-23-04, Amendment 39-19098 (82 FR 52832, November 15, 2017) (AD 2017-23-04).

(c) Applicability

This AD applies to all Airbus SAS Model A300 B4-603, B4-605R, B4-622, B4-622R, C4-605R Variant F, F4-605R, and F4-622R airplanes, certificated in any category.

(d) Subject

Air Transport Association (ATA) of America Code 57, Wings.

(e) Unsafe Condition

This AD was prompted by the determination that the top stringer joints at rib 18 are an area of uniform stress distribution, which indicates that cracks may develop in adjacent stringer at the same time, and by the determination that additional airplanes are subject to the unsafe condition. The FAA is issuing this AD to detect and correct damage (including cracking) at the stringer joints. The unsafe condition, if not addressed, could result in reduced structural integrity of the wing.

(f) Compliance

Comply with this AD within the compliance times specified, unless already done.

(g) Requirements

Except as specified in paragraph (h) of this AD: Comply with all required actions and compliance times specified in, and in accordance with, European Union Aviation Safety Agency (EASA) AD 2024-0170, dated August 26, 2024 (EASA AD 2024-0170).

(h) Exceptions to EASA AD 2024-0170

(1) Where EASA AD 2024-0170 refers to “24 February 2017 [the effective date of EASA AD 2017-0023]”, this AD requires using “December 20, 2017 (the effective date of AD 2017-23-04)”.

(2) Where EASA AD 2024-0170 refers to its effective date, this AD requires using the effective date of this AD.

(3) Where EASA AD 2024-0170 does not define “average flight time” for determining the short range (SR) and long (RC) airplanes, this AD defines “average flight time” as the total accumulated flight hours, counted from takeoff to touchdown, divided by the total accumulated flight cycles as of December 20, 2017 (the effective date of AD 2017-23-04).

(4) Where paragraph (1) of EASA AD 2024-0170 specifies to accomplish all applicable corrective actions and modify the stringer joint couplings, this AD requires accomplishing the applicable corrective actions and modification before further flight after the inspection.

(5) Where the referenced material in EASA AD 2024-0170 specifies inspecting for damage, this AD defines damage as cracking.

(6) This AD does not adopt the “Remarks” section of EASA AD 2024-0170.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Aaron Nguyen, Aviation Safety Engineer, FAA, 2200 South 216th St., Des Moines, WA 98198; phone: 817-222-5134; email: Aaron.T.Nguyen@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0170, dated August 26, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on May 6, 2025.
Victor Wicklund,
Deputy Director, Integrated Certificate Management Division, Aircraft Certification Service.

[FR Doc. 2025-08331 Filed 5-12-25; 8:45 am]

BILLING CODE 4910-13-P